DEPARTMENT OF THE INTERIOR

Bureau of Land Management

[ID 075 1330 EO]

DEPARTMENT OF AGRICULTURE

Forest Service

Notice of Intent To Prepare an Environmental Impact Statement for the Smoky Canyon Mine, Panels F and G Extension, BLM Pocatello Field Office and Caribou-Targhee National Forest, Caribou County, ID

AGENCY: Bureau of Land Management, USDI and Forest Service, USDA

ACTION: Notice of intent to prepare an Environmental Impact Statement (EIS) for the Smoky Canyon Mine and Reclamation Plan, Panels F and G Extension.

SUMMARY: Notice is hereby given that the Department of the Interior, Bureau of Land Management (BLM), Pocatello Field Office and the Department of Agriculture, Forest Service (FS), Caribou-Targhee National Forest, will jointly prepare an EIS to determine and analyze the effects of a proposed phosphate mine and reclamation plan on people and the environment. BLM will serve as the lead agency. Plans have been developed and submitted for agency review for an extension of open pit mining operations at the J.R. Simplot Company (Simplot) Smoky Canyon Phosphate Mine in Caribou County, Idaho, located approximately 20 miles west of Afton, Wyoming. Simplot has operated existing Smoky Canyon Mine since 1983 and within a few years will complete mining of currently permitted reserves.

Agency Decisions: The BLM Idaho State Director or delegated official will make a decision regarding approval of the proposed mine and reclamation plan and appropriate land use authorizations (including a proposed 520 acre modification to I-27512) on leased lands. Decisions will be based on the EIS and any recommendations the FS may have regarding surface management of leased National Forest System lands. The Caribou-Targhee National Forest Supervisor makes recommendations to the BLM concerning surface management and mitigation on leased lands within the Caribou-Targhee National Forest and makes decisions on mine-related activities which occur off-lease. The Army Corps of Engineers may also make decisions related to permits under Section 404 of the Clean Water Act.

DATES: Written comments concerning the scope of the analysis should be received within 30 days of the date of publication of this notice in the Federal Register. A draft EIS is expected to be completed by March of 2005. A final EIS is expected in September of 2005.

Scoping Procedure: The scoping procedure to be used for this EIS will involve: Notification in the Federal Register; a mailing to interested and potentially affected individuals, groups, Federal, State and local government entities eliciting comments, issues and concerns; local news releases or newspaper legal notices; and public scoping meetings.

ADDRESSES: Send written comments to: Panels F and G Extension EIS, Bureau of Land Management, Pocatello Field Office, 1111 N. 8th Ave., Pocatello, Idaho 83201. Email: ID_F_and_G_Panel_EIS@blm.gov.

FOR FURTHER INFORMATION CONTACT: James Blair, Bureau of Land Management, Pocatello Field Office, 1111 N. 8th Ave., Pocatello, Idaho 83201, phone (208) 478-6384; or Scott Gerwe, Caribou-Targhee National Forest, Soda Springs Ranger District, 410 E. Hooper Ave., Soda Springs, Idaho 83276, phone (208) 547-4356. Information is also available at: http://www.id.blm.gov/offices/pocatello/sim_fg.

SUPPLEMENTARY INFORMATION: The proposed new extension of mining operations in Panels F and G lie within the Caribou-Targhee National Forest on lands administered by the FS and Federal mineral leases administered by the BLM. Mining as proposed would take place on Panel F, including a lease modification (enlargement) of I-27512, and Panel. These existing Federal mineral leases are adjacent to the southwest portion of the existing mine and were previously issued to Simplot by competitive bid in January of 2001 and October of 1950 respectively. Environmental impacts of the proposed mining operations and reasonable alternatives will be analyzed in the EIS. Appropriate mitigation measures will also be formulated.

The proposed mining activities consist of two open pits—Panel F on Federal phosphate lease I-27512 (sometimes referred to as the Manning Creek lease) and Panel G on Federal phosphate lease I-01441 (sometimes referred to as the Deer Creek lease), topsoil stockpiles, mine equipment parking and service areas, access and haul roads, a power line extension from the existing Smoky Canyon loop, permanent external overburden storage areas, and runoff/sediment control facilities. A new haul/access road to transport ore to the existing Smoky Canyon mill is proposed to be constructed from the south end of the existing Panel E approximately 0.7 miles to the proposed Panel F. As operations move south to Panel G, another haul road is proposed to transport ore 7.7 miles from Panel G north to Panel F. Much of these activities are proposed to occur within the FS Sage Creek inventoried roadless area.

As proposed, the existing Smoky Canyon Mine, maintenance, administrative, and milling facilities would continue to be used. However, because G panel lies several miles south of the currently existing maintenance and fuel facilities, Simplot's plans propose mine support facilities at the new panels including: equipment ready lines, electrical substations, warehouse and storage areas, lunch rooms, repair shops, restrooms, fuel and lubricant storage and dispensing facilities and blasting supplies.

Ore from the new panels would be hauled in trucks over new and existing haul/access roads to the existing Smoky Canyon mill facilities to be concentrated. Ore concentrate from the mill would be transported to the Simplot fertilizer plant in Pocatello, Idaho via the existing slurry pipeline system. Mill tailings would continue to be deposited in the currently approved and permitted tailings disposal facilities located on Simplot property east of the mill.

Initially, overburden generated from Panel F would be trucked to the existing Panel E open pit and used as backfill. Excess waste rock is proposed to be permanently placed in a 35-acre pit overfill fill on-lease. Remaining overburden from Panel F would then be placed as backfill in Panel F as soon as practical. Overburden generated from mining Panel G would be permanently placed in 132 acres of external overburden fills on-lease at Panel G as well as backfill in the Panel G open pit.

Disturbed lands directly resulting from the proposed activities total about 1,325 acres. New pits would disturb approximately 842 acres of which approximately 796 acres would be backfilled and reclaimed. Forty-six acres of highwall and pit bottoms would remain after reclamation is complete. The remaining 23 acres of the Panel E (currently approved and active) open pit would also be backfilled with overburden from Panel F. This pit is currently permitted to be left open. The rest of the disturbed acreage would consist of approximately 307 acres of roads, 167 acres of overburden disposal areas, and 9 acres of runoff management facilities, water monitoring facilities, and topsoil piles. Each would be reclaimed. The FS Sage Creek inventoried roadless area overlaps large portions of the proposed mine and haul road disturbance areas.

Potential impacts to surface resources and water quality include erosion, sediment, and dissolved contaminants such as selenium. Simplot has proposed to implement practices designed to reduce, eliminate, or mitigate these impacts. Suitable topsoil would be salvaged from disturbed areas for use in reclamation. Reclamation of mining disturbances include: removal of facilities and equipment, backfilling pits, regrading slopes, restoring drainages, spreading topsoil, stabilizing surfaces, revegetation, testing and treatment for remaining hydrocarbon contaminants and environmental monitoring.

Simplot has applied for two lease modifications to expand Federal Phosphate Lease I-27512 for the Panel F operations. They are a smaller 120-acre lease modification on the northern edge of the lease and a larger 400-acre modification on the southern edge of the lease. The proposed northern lease modifications would be included in all action alternatives. The issuance and mining of a southern lease modification would be evaluated as a separate alternative. Environmental impacts of mining operations within the lease modifications will be analyzed in this EIS.

Issues initially identified for the proposed mining of F and G panels include potential effects on: ground water and surface water quantity and quality, wildlife and their habitats; livestock grazing, wetlands and riparian habitat, socio-economics, FS inventoried roadless areas, visual resources, and cumulative effects.

At this early stage, the BLM and FS believe that it is important to give reviewers notice of several court rulings related to public participation in the environmental review process. First, reviewers of draft EISs must structure their participation in the environmental review of the proposal to be meaningful and alerts an agency to reviewer's position and contentions. Vermont Yankee Nuclear Power Corp. v. NRDC, 435 U.S. 519,553 (1978). Also, environmental objections that could be raised at the draft EIS stage but are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Due to these court rulings, it is very important that those interested in this proposed action participate by the close of the 60-day comment period for the draft EIS. This is necessary so that substantive comments and objections are made available to the BLM and FS at a time when they can meaningfully consider them and respond to them in the final EIS.

Possible Alternatives

The EIS will analyze the Proposed Action with and without issuing a lease modification on the southern margin of Panel F operations, alternative access/haul road alignment to access the Panel G operations and the No Action Alternative. Other alternatives may include: additional access and haul road designs, use of conveyors to transport ore to the existing mill, revising the layout or sequencing of the proposed mining facilities, different methods for reducing impacts from overburden handling, and; other alternatives that could provide mitigation for impacts.

Tentative EIS Project Schedule

The tentative project schedule is as follows:

• Begin Public Comment Period: September 2003.

• Hold Public Scoping Meetings: September 2003.

• Estimated date for Draft EIS: March 2005.

• Public Comment Period on Draft EIS: 60 days from when the Notice of Availability is published in the Federal Register.

• Final EIS Publication: September 2005.

• Decision: October 2005.

Public Scoping Meetings

At least two public scoping meetings will be held. Each will be the open house type. The open houses will include displays explaining the project and provide a forum for commenting on the project. Meetings are currently planned for Pocatello, Idaho and Afton, Wyoming. The dates, times, and locations of the public scoping meetings will be announced in mailings and public notices issued by the BLM or may be obtained from James Blair, Bureau of Land Management, Pocatello Field Office, 1111 N. 8th Ave., Pocatello, Idaho 83201, or http://www.id.blm.gov/offices/pocatello/sim_fg, phone (208) 478-6384.

Public Input Requested

The BLM and FS are seeking information and written comments from Federal, State and local agencies as well as individuals and organizations interested in, or affected by, the Proposed Action or Alternatives. To assist the BLM and FS in identifying issues and concerns related to the Proposed Action or Alternatives, comments for scoping, and later for the Draft EIS, should be as specific as possible.

Dated: August 14, 2003.
Phil Damon,
Manager, Pocatello Field Office, Bureau of Land Management.
Jerry B. Reese,
Forest Supervisor, Caribou-Targhee National Forest.

[FR Doc. 03-23441 Filed 9-12-03; 8:45 am]

BILLING CODE 4310-GG-P